DEPARTMENT OF TRANSPORTATION

Federal Aviation Administration

14 CFR Part 39

[Docket No. 2003-NM-46-AD]

RIN 2120-AA64

Airworthiness Directives; Bombardier Model CL-600-2C10 (Regional Jet Series 700 & 701) Series Airplanes

AGENCY: Federal Aviation Administration, DOT.

ACTION: Notice of proposed rulemaking (NPRM).

SUMMARY: This document proposes the adoption of a new airworthiness directive (AD) that is applicable to certain Bombardier Model CL-600-2C10 (Regional Jet Series 700 & 701) series airplanes. This proposal would require an inspection of the thrust reverser cascades for correct installation; removing and reinstalling the cascade in the correct location, if necessary; and reworking the thrust reverser cascades to add locating spigots (metal protrusions) to each cascade; as applicable. This action is necessary to prevent asymmetric reverse thrust and consequent loss of control of the airplane during reverse thrust operation. This action is intended to address the identified unsafe condition.

DATES: Comments must be received by June 18, 2004.

ADDRESSES: Submit comments in triplicate to the Federal Aviation Administration (FAA), Transport Airplane Directorate, ANM-114, Attention: Rules Docket No. 2003-NM-46-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-46-AD” in the subject line and need not be submitted in triplicate. Comments sent via the Internet as attached electronic files must be formatted in Microsoft Word 97 or 2000 or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 1600 Stewart Avenue, suite 410, Westbury, New York.

FOR FURTHER INFORMATION CONTACT: James Delisio, Aerospace Engineer, Airframe and Propulsion Branch, ANE-171, FAA, New York Aircraft Certification Office, 1600 Stewart Avenue, suite 410, Westbury, New York 11590; telephone (516) 228-7321; fax (516) 794-5531.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-46-AD.” The postcard will be date stamped and returned to the commenter.

Availability of NPRMs

Any person may obtain a copy of this NPRM by submitting a request to the FAA, Transport Airplane Directorate, ANM-114, Attention: Rules Docket No. 2003-NM-46-AD, 1601 Lind Avenue, SW., Renton, Washington 98055-4056; or at the FAA, New York Aircraft Certification Office, 1600 Stewart Avenue, suite 410, Westbury, New York 11590.

Discussion

Transport Canada Civil Aviation (TCCA), which is the airworthiness authority for Canada, notified the FAA that an unsafe condition may exist on certain Bombardier Model CL-600-2C10 (Regional Jet Series 700 & 701) series airplanes. TCCA advises that an incident occurred during a pre-delivery flight where, upon landing and application of maximum thrust reverser, the airplane veered to the right from the runway heading. Investigation revealed that the thrust reverser cascades configuration of the left engine was incorrectly installed during production. The cascades have different part numbers to control the correct installation location; however, it is physically possible that diagonally opposed thrust reverser cascades can be intermixed in either engine at any time the assemblies are changed. Incorrectly installed thrust reverser cascades, if not corrected, could cause asymmetric reverse thrust and consequent loss of control of the airplane during reverse thrust operation.

Explanation of Relevant Service Information

For certain airplanes, Bombardier has issued Alert Service Bulletin A670BA-78-001, Revision A, dated April 23, 2002, which describes procedures for performing a general visual inspection of the thrust reverser cascades for correct installation, and removing and reinstalling the cascade in the correct cascade location, if necessary. TCCA classified this service bulletin as mandatory and issued Canadian airworthiness directive CF-2002-30, dated May 22, 2002, in order to assure the continued airworthiness of these airplanes in Canada.

For certain airplanes, Bombardier has also issued Service Bulletin 670BA-78-003, dated January 22, 2004, which describes procedures for reworking the thrust reverser cascades to add locating spigots (metal protrusions) to each cascade. TCCA has approved this service bulletin.

Bombardier Service Bulletin 670BA-78-003 refers to GE Aircraft Engines Service Bulletin 670GE-78-008, dated December 17, 2003, as an additional source of information for accomplishment of the rework.

Accomplishment of the actions specified in the Bombardier service bulletins is intended to adequately address the identified unsafe condition.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable Bombardier service bulletins described previously.

Differences Between Proposed Rule and Canadian Airworthiness Directive

Canadian airworthiness directive CF-2002-30 requires inspection of the thrust reverser cascades (interim action) per Bombardier Alert Service Bulletin A670BA-78-001, Revision A. Unlike the Canadian airworthiness directive, for certain airplanes, the proposed AD would require rework of the thrust reverser cascades (terminating action) per Bombardier Service Bulletin 670BA-78-003. After the issuance of the Canadian airworthiness directive, TCCA approved Bombardier Service Bulletin 670BA-78-003, and is considering superseding CF-2002-30 to mandate rework of the thrust reverser cascades (terminating action).

Cost Impact

The FAA estimates that 102 airplanes of U.S. registry would be affected by this proposed AD. The average labor rate is $65 per work hour.

It would take approximately 1 work hour per airplane to accomplish the proposed inspection. Based on these figures, the cost impact of the proposed inspection on U.S. operators is estimated to be $6,630, or $65 per airplane, per inspection cycle.

It would take approximately 4 work hours per airplane to accomplish the proposed modification. Based on these figures, the cost impact of the proposed rework on U.S. operators is estimated to be $26,520, or $260 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2003-NM-46-AD.

Applicability: Model CL-600-2C10 (Regional Jet Series 700 & 701) series airplanes, serial numbers 10003 through 10116 inclusive, certificated in any category.

Compliance: Required as indicated, unless accomplished previously.

To prevent asymmetric reverse thrust and consequent loss of control of the airplane during reverse thrust operation, accomplish the following:

Inspection

(a) For airplanes with serial numbers 10005 through 10040 inclusive: Within 72 flight hours or 30 days from the effective date of the AD, whichever occurs first, perform a general visual inspection of the thrust reverser cascades for correct installation, per the Accomplishment Instructions of Bombardier Alert Service Bulletin A670BA-78-001, Revision A, dated April 23, 2002.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Repetitive Inspections for Certain Airplanes

(b) For airplanes with serial numbers 10003 through 10116 inclusive: Each time the thrust reverser cascade is removed and reinstalled, perform the action specified in paragraph (a) of this AD.

Corrective Action

(c) If any thrust reverser cascade is found to be incorrectly installed during any inspection required by paragraph (a) or (b) of this AD, before further flight, remove and reinstall the cascade in the correct location, per the Accomplishment Instructions of Bombardier Alert Service Bulletin A670BA-78-001, Revision A, dated April 23, 2002.

Terminating Action

(d) Within 6,000 flight hours from the effective date of the AD, rework the thrust reverser cascades by accomplishing all the actions in the Accomplishment Instructions of Bombardier Service Bulletin 670BA-78-003, dated January 22, 2004. Accomplishment of the rework terminates the requirements of paragraphs (a) and (b) of this AD.

Note 2: Bombardier Service Bulletin 670A-78-003, references GE Aircraft Engines Service Bulletin 670GE-78-008, dated December 17, 2003, as an additional source of service information for the accomplishment of the rework.

Parts Installation

(e) Except as provided by paragraphs (b) and (c) of this AD, as of the effective date of this AD, no person may install on any airplane a thrust reverser cascade with powerplant system, serial numbers PS0003 through PS0116 inclusive, left- and right-hand, unless it has been reworked per Bombardier Service Bulletin 670BA-78-003, dated January 22, 2004.

Previous Actions

(f) Inspections accomplished before the effective date of this AD per Bombardier Alert Service Bulletin A670BA-78-001, dated April 19, 2002, are considered acceptable for compliance with paragraph (a) and (b) of this AD.

Alternative Methods of Compliance

(g) In accordance with 14 CFR 39.19, the Manager, New York Aircraft Certification Office (ACO), FAA, is authorized to approve alternative methods of compliance for this AD.

Note 3: The subject of this AD is addressed in Canadian airworthiness directive CF-2002-30, dated May 22, 2002.

Issued in Renton, Washington, on May 11, 2004.
Kevin M. Mullin,
Acting Manager, Transport Airplane Directorate, Aircraft Certification Service.

[FR Doc. 04-11289 Filed 5-18-04; 8:45 am]

BILLING CODE 4910-13-P